DEPARTMENT OF ENERGY

Western Area Power Administration; Grapevine Canyon Wind Project Record of Decision (DOE/EIS-0427)

AGENCY: Western Area Power Administration, DOE.

ACTION: Record of Decision.

SUMMARY: Western Area Power Administration (Western) received a request from Foresight Flying M, LLC (Foresight) to interconnect its proposed Grapevine Canyon Wind Project (Project) to Western's Glen Canyon-Pinnacle Peak No. 1 and No. 2 transmission lines. The Project would be located about 28 miles south and east of Flagstaff, in Coconino County, Arizona. On June 8, 2012, the Notice of Availability of the Final Environmental Impact Statement (EIS) for Grapevine Canyon Wind Project was published in the Federal Register (77 FR 34041). After considering the environmental impacts, Western has decided to allow Foresight's request for interconnection to Western's transmission system on its Glen Canyon-Pinnacle Peak transmission lines and to construct, own, and operate a new switchyard to accommodate the interconnection.

FOR FURTHER INFORMATION CONTACT: For further information, please contact Mr. Matt Blevins, Corporate Services Office, Western Area Power Administration, A7400, P.O. Box 281213, Lakewood, CO 80228-8213, telephone (720) 962-7261, fax (720) 962-7263, or email: GrapevineWindEIS@wapa.gov. For general information on DOE's National Environmental Policy Act of 1969 (NEPA) review process, please contact Carol M. Borgstrom, Director, Office of NEPA Policy and Compliance, GC-54, U.S. Department of Energy, Washington, DC 20585, telephone (202) 586-4600 or (800) 472-2756.

SUPPLEMENTARY INFORMATION: Western is a Federal agency under the U.S. Department of Energy (DOE) that markets and transmits wholesale electrical power through an integrated 17,000-circuit mile, high-voltage transmission system across 15 western states. Western's Open Access Transmission Service Tariff (Tariff) provides open access to its electric transmission system. Considering the requester's objectives, Western provides transmission services if there is available capacity and the reliability of the transmission system is maintained.

The U.S. Department of Agriculture, Forest Service, Coconino National Forest (Forest Service) and the Arizona State Land Department participated as cooperating agencies on the EIS. Interested parties were notified of the proposed Project and the public comment opportunity through a Notice of Intent published in the Federal Register on July 24, 2009 (74 FR 36689). The U.S. Environmental Protection Agency (EPA) published a Notice of Availability (NOA) of the Draft EIS in the Federal Register on July 23, 2010 (75 FR 43161). The NOA also announced a 45-day comment period for receipt of comments on the Draft EIS. On June 8, 2012, the EPA published an NOA of the Final EIS for the Project in the Federal Register (77 FR 34041).¹

¹ The Final EIS can be found on Western's Web site at: http://ww2.wapa.gov/sites/Western/transmission/interconn/Pages/Grapevine.aspx.

Proposed Federal Action

Western's proposed Federal Action is to approve Foresight's request for interconnection to Western's transmission system on the Glen Canyon-Pinnacle Peak 345-kilovolt (kV) transmission lines, an action that would also require a new Western switchyard on Forest Service-managed lands to be constructed, owned, and operated by Western.

Foresight Proposed Project

Foresight proposes to construct and operate a utility-scale wind energy generating facility on private and state trust land. The wind energy generating facility would generate up to 500 megawatts of electricity from wind turbine generators (WTGs). The proposed project includes a wind energy generating facility (wind park) and a 345-kV transmission tie-line. The proposed wind park would be built in one or more phases, dependent on one or more power sale contracts. The proposed wind park would include improved and new access and service roads, WTGs, an electrical collection system, up to two step-up substations, an extension tie-line, communications system, operations and maintenance building, and meteorological monitoring towers. A new 345-kV single-circuit electrical transmission tie-line would be constructed between the initial wind park step-up substation and Western's proposed switchyard at its existing Glen Canyon-Pinnacle Peak No. 1 and No. 2 345-kV transmission lines. The transmission tie-line would be approximately 15 miles in length, extending 8.5 miles across Forest Service-managed lands and up to approximately 6.5 miles across state trust and private lands.

Description of Alternatives

Foresight, in coordination with the Forest Service, proposed a route for the transmission tie-line to address potential effects to visual resources and avoid or minimize impacts to other resources. The alternative tie-line would deviate from Foresight's proposed tie-line route by approximately one-half mile to avoid the intersection of Forest Service routes 125 and 82 on Forest Service-managed lands.

Five alternatives to the location of the proposed transmission tie-line and switchyard were considered during scoping. Additionally, an alternative addressing burying the transmission tie-line was considered. None of the transmission tie-line alternatives were carried forward for consideration based on criteria including cost, construction feasibility, environmental resource sensitivities, and conformance with applicable land use plans. Alternatives addressing the location of the proposed wind park were not evaluated because no alternative locations were proposed during the EIS scoping process, and decisions related to the wind park location are outside the decisions that would be made by the Federal agencies. As required by 40 CFR 1505.2(b), Western has identified the No Action Alternative as its environmentally preferred alternative. Under this alternative, Western would deny the interconnection request and not modify its transmission system to interconnect the proposed Project with its transmission system. Under this alternative, there would be no modifications to Western's transmission system, and thus no new environmental impacts. Foresight's objectives relating to renewable energy development would not be met.

Mitigation Measures

Foresight, the Forest Service, and Western proposed resource protection measures (RPMs) for each resource area to minimize impacts associated with construction, operation, and maintenance of the proposed Project. Foresight and the Federal agencies committed to these RPMs, and they were included in the evaluation of environmental impacts in the Final EIS. Foresight will follow standard construction practices, best management practices, and RPMs during the construction, operation, and maintenance of the proposed wind park and transmission tie-line facilities. To implement the RPMs, an Avian and Bat Protection Plan (ABPP) is being voluntarily developed with the U.S. Fish and Wildlife Service and the Arizona Department of Game and Fish. The ABPP includes components such as additional pre-construction and post-construction wildlife studies to inform final micro-siting of the initial project phase and monitor operational impact levels. An adaptive management protocol will be implemented within the ABPP whereby iterative decision-making (evaluating results and adjusting actions on the basis of what has been learned) will be undertaken to reduce or avoid impacts to biological resources if post-construction monitoring demonstrates that impacts are greater than anticipated.

Western does not have jurisdiction over the siting, construction, or operation of the proposed wind park, so its proposed RPMs apply to the proposed switchyard. The Forest Service has proposed certain measures that will be binding on Western for its proposed switchyard. In addition, Western requires its construction contractors to implement standard environmental protection provisions. These provisions are provided in Western's Construction Standard 13 and will be applied to the proposed switchyard. Specific BMPs that the Forest Service requires will address soil and water resources and invasive species management for the proposed switchyard.

Western, the Forest Service, and Foresight are among the signatories to a Programmatic Agreement (PA) for compliance with the National Historic Preservation Act and, thus, will implement provisions in the PA addressing effects to properties on or eligible for listing to the National Register of Historic Places.

With this decision, Western is not adopting any additional mitigation measures that apply to its action outside of the RPMs addressed in the Final EIS. As such, a Mitigation Action Plan is not required for Western's proposed action. The RPMs in the Final EIS reflect all practicable means to avoid or minimize environmental harm from the Project and Western's Proposed Action.

Comments on Final EIS

Western received comments from the Arizona Department of Environmental Quality (ADEQ) in a letter dated June 4, 2012, and from the EPA in a letter dated June 27, 2012. Additionally, Western received emails on June 6 and 11, 2012, and a letter dated June 29, 2012, from the owner of a 5-acre parcel about 2 miles east of the wind park study area boundary. Based on a review of these comments, Western has determined that the comments do not present any significant new circumstances or information relevant to environmental concerns and bearing on the Project or its impacts, and a Supplemental EIS is not required. The basis for this determination is summarized below.

ADEQ provided information on how to reduce particulate matter disturbances and noted that it agreed with the EIS determination of the need for a minor air quality permit for the portable rock crusher and concrete batch plants. In addition, ADEQ reiterated its recommendations provided in its August 11, 2010, letter with comments on the Draft EIS. As noted in the Final EIS in response to the ADEQ letter, the air quality-related RPMs were expanded to address ADEQ's recommendations.

EPA noted in its comment letter that the U.S. Army Corps of Engineers (Corps) has not verified the preliminary jurisdictional delineation or issued a final jurisdictional determination. EPA recommended that this decision include a final determination of the geographic extent of jurisdictional waters, based on the approved jurisdictional determination. Based on information provided by Foresight, the Preliminary Jurisdictional Determination Report for the initial development phase for the wind park has been resubmitted to the Corps, with modifications in response to comments and suggestions made by the Corps following their review of the initial submittal. The resubmitted report is consistent with the data and analysis regarding the geographic extent of jurisdictional waters included in the Final EIS. Foresight will continue to pursue a final determination by the Corps and intends to obtain the appropriate Clean Water Act Section 404 permits once the size of the initial development and final infrastructure siting are determined. Western's switchyard would not affect any jurisdictional waters.

EPA also recommended that, when hauling material and operating non-earthmoving equipment, speeds be limited to 15 miles per hour. Likewise, for earthmoving equipment, EPA recommended limiting speed to 10 miles per hour. Western agrees with EPA's recommendations and will include provisions in its construction contract for the switchyard that limit construction vehicle speed limits. Foresight indicated that the wind park contractor will set speed limits within the project site with lower speed limits for construction areas as well as other areas with construction and project-related traffic.

The owner of the parcel east of the wind park study area provided comments with concerns about not being notified about the proposed Project and an expansion of the study area boundaries during the EIS scoping process, the scoping map violating standards for color blindness, wind park access, WTG lighting, discrepancies with land cover information, groundwater impacts, ditch network impacts, and visual impacts to views from his parcel and Forest Service-managed lands west, south, and southeast of the proposed wind park.

In response to the owner's concerns about the scoping process, Western sent landowner notifications based on a list of property owners within 10 miles of the proposed Project. The owner of the parcel was inadvertently not included in the list. During the scoping process, however, Western employed several mechanisms to notify potentially interested entities, including display ads in the area newspaper, radio ads, and postings of the project flyer in the Flagstaff and Winslow, Arizona, libraries, and the Meteor Crater RV Park and Visitor Center. In addition, the Forest Service maintained project information under its Schedule of Proposed Actions on its Web site. As explained in the paragraphs that follow, the EIS adequately addressed the property owner's concerns, even with the expansion of the wind park study area between the EIS scoping and the issuance of the Draft EIS. In response to the owner's concern about the scoping map violating the Americans with Disabilities Act, Western's use of color in the maps and figures was used to generally inform readers of various aspects of the Project. Western attempted to use sufficient difference in color tones so that users who are color-blind or have poor vision could distinguish between elements of the page. However, even if a user could not distinguish colors on certain maps or figures, the text of the Final EIS adequately describes the Federal actions and Foresight's proposed Project as well as the associated impacts. In addition, Western posted an electronic copy of the Final EIS, including the scoping map, on its Web site that meets the requirements of Section 508 of Workforce Rehabilitation Act of 1973. In relation to color, the primary requirement is that color cannot be the only means of identification on the page. The Final EIS used text in addition to color on the included maps and figures as well as text in the Final EIS body to convey the pertinent information.

The property owner provided information to augment information included in the Final EIS, including the status of Forest Road 69 between Chavez Pass and State Route 87, the management of lands along the southern boundary of the wind park study area by the Forest Service, and the ownership of lands at KOPs 4 and 5 addressed in the Final EIS. Western has noted this new information provided by the property owner, and it has been taken into account in this decision. Responses to the property owner's other comments follow.

The property owner expressed concerns about the installation of red flashing lights on wind turbine generators per Federal Aviation Administration (FAA) requirements. Per a RPM in the Final EIS, exterior lighting on the WTGs required by the FAA would be kept to the minimum number and intensity required to meet FAA standards. Based on this measure, the proposed wind park would be consistent with current Coconino County goals and policies. The property owner's concern with the lighting does not present any significant new circumstances or information relevant to environmental concerns.

The property owner commented that groundwater impacts extend significantly beyond the water resources evaluation area addressed in the Final EIS. Based on the analysis in the EIS, the water level drawdown contour would extend less than 800 feet from each well used for construction and would be negligible for wells more than one-half mile away. Therefore, the expected impacts at other existing wells in the vicinity are minimal and are not expected to affect the existing groundwater users' ability to continue their existing uses. Western believes the water analysis in the Final EIS accurately reflects drawdown levels.

The property owner noted that the Final EIS failed to mention the ditch network in and north of Chavez Pass. The RPMs included in the water resources section of the Final EIS would apply to the ditch network and wells in the wind park study area. With these measures, no permanent effects to the ditch network are expected.

The property owner noted that KOP 5 is located about 1.5 miles from his property, and commented that the Scenery Integrity Level would change from high to low, which the commenter maintained would be unacceptable on Forest Service lands. The Final EIS includes photo simulations from a key observation point (KOP No. 5) located near State Highway 87 southeast of the wind park study area near the owner's parcel. No project facilities would be visible from KOP 5 located near the property owner's parcel for the initial development phase. Based on an evaluation in the Final EIS of the views from KOP 5, views of the San Francisco Peaks would be partially blocked by some of the closest WTGs for the subsequent build-out phases. The Final EIS also indicates that the subsequent build-out phases for the proposed wind park would create a high visual contrast from this viewpoint. However, the nearest WTG would be located more than one mile from the property owner's parcel in accordance with current County goals and policies. In addition, the views evaluated from KOP 5 are primarily outside of the Forest Service-defined management objectives. The commenter's concerns related to visual impacts do not present any significant new circumstances or information relevant to environmental concerns.

In response to the property owner's information on land ownership at KOP 4, the property owner is correct that KOP 4 is located on Forest Service-managed lands. The photo simulation from KOP 4 simulates the proposed wind park as it would be seen from a point along Chavez Pass Road. WTGs are depicted at a height of approximately 430 feet, and a distance of approximately 1.7 miles from the road. As such, they are located within middleground views. The KOP represents a view into the proposed wind park, which is not located on Forest Service-managed lands and is therefore outside of the Forest Service-defined management objectives for scenic resources. The Final EIS noted that the proposed wind park would result in visual contrast that ranges from low to high on private and state lands. Therefore, the location of the KOP on Forest Service managed land, versus state or private lands, do not present any significant new circumstances or information relevant to environmental concerns.

The property owner expressed concerns that the views from KOP 6, west of the proposed wind park and near the transmission tie-line routing, would result in a significant, drastic change to a beautiful viewshed. This KOP is located on Forest Service Road 125, along the eastern edge of Anderson Mesa, looking to the east. The Final EIS notes that the proposed wind park and transmission tie-line would introduce elements of form, line, scale, and color that would contrast with the otherwise natural valley floor. Therefore, the concerns expressed by the property owner do not present any significant new circumstances or information relevant to environmental concerns.

The property owner noted that the EIS does not discuss Forest Service opinions of landscape changes on non-Forest Service land visible from Forest Service-managed lands. The purpose of the EIS is to disclose the environmental impacts from the proposed Project, not to provide Western or Forest Service opinions regarding developments on private land. For the reasons stated above in the discussion of visual impacts from KOPs 4, 5, and 6, the Final EIS adequately addresses the effects of views from Forest Service-managed lands towards the wind park development.

Western does not have any jurisdiction over the siting of WTGs, but the owner of the parcel will have opportunities to provide additional input during the approval process for the General Use Permit that would be issued by Coconino County for the Project.

Decision

Western's decision is to allow Foresight's request for interconnection to Western's transmission system at its Glen Canyon-Pinnacle Peak No. 1 and No. 2 transmission lines, and to construct, own, and operate a new switchyard.² Western's decision to grant this interconnection request satisfies the agency's statutory mission and Foresight's objectives while minimizing harm to the environment. Full implementation of this decision is contingent upon Foresight obtaining all other applicable permits and approvals as well as executing an interconnection agreement in accordance with Western's Tariff.

² Western's authority to issue a ROD is pursuant to authority delegated on November 16, 2011, from DOE's Office of the General Counsel.

This decision is based on the information contained in the Grapevine Canyon Wind Project Final EIS and comments received on the Final EIS. This ROD was prepared pursuant to the requirements of the Council on Environmental Quality Regulations for Implementing NEPA (40 CFR parts 1500-1508) and DOE's Procedures for Implementing NEPA (10 CFR part 1021).

Dated: August 28, 2012.
Anita J. Decker,
Acting Administrator.

[FR Doc. 2012-22316 Filed 9-10-12; 8:45 am]

BILLING CODE 6450-01-P